DEPARTMENT OF DEFENSE

Department of the Army; Corps of Engineers

Public Hearing and Notice of Availability for the Draft Environmental Impact Statement for Widening of the Freeport Ship Channel in Freeport, Brazoria County, TX

AGENCY: Department of the Army, U.S. Army Corps of Engineers, DoD.

ACTION: Notice of availability.

SUMMARY: The U.S. Army Corps of Engineers, Galveston District announces the release of the Draft Environmental Impact Statement (DEIS), the Draft General Conformity Determination, the public comment period, and the date and location of the Public Hearing, for the Brazos River Harbor Navigation District's (Port Freeport) proposed widening of the Freeport Harbor Ship Channel.

DATES: The USACE Galveston District will be accepting written public comments on the DEIS and the Draft General Conformity Determination through January 9, 2007. All comments must be postmarked by January 9, 2007.

ADDRESSES: You may send written comments to the USACE, Galveston District, Attn: Sam Watson, P.O. Box 1229, Galveston, TX 77553-1229.

FOR FURTHER INFORMATION CONTACT: Questions about the proposed action and DEIS can be answered by Mr. Sam Watson, (409) 766-3946.

SUPPLEMENTARY INFORMATION:

Authority: This Federal Action is in consideration of a Department of the Army Permit application for work under Section 10 of the Rivers and Harbors Act of 1899 (33 U.S.C. 403), Section 404 of the Clean Water Act (33 U.S.C. 1344) and Section 103 of the Marine Protection and Sanctuaries Act (MPRSA) (33 U.S.C. 1413).

Background: In April 2005, Port Freeport submitted a Department of Army Permit Application to widen portions of the Freeport Harbor Jetty Channel and all of the Freeport Harbor Entrance Channel from 400 feet (ft) to 600 ft. It was determined that an Environmental Impact Statement would be required for the proposed project. Since the November 29, 2005 Scoping Meeting, the consulting firm of PBS&J, under the direction of the Galveston District, U.S. Army Corps of Engineers (USACE), prepared a Draft Environmental Impact Statement for the proposed project. The DEIS is now available for public review and comment.

Project Description: Port Freeport proposes to widen portions of the Freeport Ship Channel. The project includes widening the Freeport Harbor Jetty Channel beginning at Channel Station 63+35 with a gradual widening, at the authorized depth, up to an additional 150 feet (ft) for about 1,835 ft to Channel Station 45+00. From that point to Channel Station 40+00 the widening would be less gradual from the additional 150 ft to an additional 200 ft. Through the rest of the Jetty Channel and to the end of the Freeport Harbor Entrance Channel (Channel Station −260+00), the channel would be widened an additional 200 ft. The length of channel proposed for widening is about 6.1 miles, of which 5.7 miles would be widened by 200 ft. The project depth will remain the same at 45 ft in the Jetty Channel and 47 ft in the Entrance Channel. The widening would generate approximately 3.2 million cubic yards (mcy) of new dredged material. Approximately 2.9 mcy of the new work material would consist of clay material and about 300,000 cubic yards (cy) would consist of silty/sand material. If approved by EPA and by USACE under Section 102 and 103 of MPRSA, an ODMDS previously designated as a one-time use site would be redesignated for placement of the 2.9 mcy of clay/silt material. The 300,000 cy of silty/sand material would be used beneficially and placed on Quintana Beach in front of the Seaway upland confined placement area (UPCA). The beach on either side of this location has been enhanced through GLO or other programs, leaving a “gap” in front of the Seaway UPCA. Placement of the material in this location would fill the gap, allowing for continuous beach use and providing some protection from erosion for the Seaway UPCA.

Availability of Draft Environmental Impact Statement (DEIS): Pursuant to Section 102(2)(c) of the National Environmental Policy Act (NEPA) of 1969, as amended and as implemented by the Council on Environmental Quality (40 CFR Parts 1500-1508) a DEIS for the proposed Freeport Channel Widening has been filed with the EPA and is being made available to Federal, State, and local agencies and all interested parties. The DEIS can be viewed at www.swg.usace.army.mil/reg/pn.asp. Copies of the DEIS are available by contacting Mr. Sam Watson. In addition, copies of the DEIS are available for viewing at the following libraries:

Brazoria County Library System, Catherine H. Threadgill, County Librarian, 451 N Velasco, Angleton, TX 77515.

Brazoria Library, Jerry Measells, Librarian, 620 S. Brooks, Brazoria, TX 77422.

Clute Library, Carolyn Weatherly, Librarian, 215 N. Shanks, Clute, TX 77531.

Freeport Library, Marge Janke, Librarian, 410 Brazosport Blvd., Freeport, TX 77541.

Lake Jackson Library, Nancy Hackney, 250 Circle Way, Lake Jackson, TX 77566.

Draft General Conformity Review: Pursuant to Section 176 of the Clean Air Act Amendments (CAAA) of 1990, a Draft General Conformity Determination has been filed with the EPA and Texas Commission on Environmental Quality (TCEQ) and is being made available to Federal, State and local air quality agencies and all interested parties for the proposed Freeport Channel Widening. Copies of the Draft General Conformity Determination are available by contacting Mr. Sam Watson. In addition, copies of the Draft General Conformity Determination are available for viewing, along with the DEIS, at the libraries listed above.

Section 102/103: The Environmental Protection Agency (EPA) is charged with developing ocean dumping criteria to be used in evaluating permit applications under Section 102(a) of the Marine Protection and Sanctuaries Act (MPRSA). EPA is also responsible for designating recommended sites for ocean dumping under Section 102(c) of the MPRSA. Redesignation by EPA of an inactive ODMDS will be required for placement of new work (virgin) dredged material. Section 103 of the MPRSA authorizes the USACE to permit the transportation of dredged material to a designated ODMDS, subject to EPA concurrence and use of EPA's dumping criteria. Information required for the redesignation (Section 102) and permit (Section 103) is included in the DEIS (primarily in Appendix C).

Public Comment and Public Hearing: If you wish to voice your comments, a Public Hearing on the proposed project is scheduled for December 6, 2006 at the Freeport Community House, 1300 W. 2nd Street, Freeport, TX 77541. Poster presentations will be available for viewing and project team members will be present to discuss the DEIS at a Workshop that will precede the hearing. The Workshop will be conducted from 5 pm to 6:45 pm, and the formal Hearing will commence at 7 pm.

Other Agency Authorizations: Texas Coastal Zone consistency certification is required. The applicant has stated that the project is consistent with the Texas Coastal Management Program goals and policies and will be conducted in a manner consistent with said Program.

National Register of Historic Places: The staff archaeologist has reviewed the latest published version of the National Register of Historic Places, lists of properties determined eligible, and other sources of information. The following is current knowledge of the presence or absence of historic resources and the effects of the proposed project upon these properties: A remote sensing survey of the Freeport Harbor Channel was performed by PBS&J in March and April, 2005 and a close-order survey was performed in February 2006. A total of eleven anomalies having potential historic significance were located in areas of potential impact during the initial inventory. Six of those anomalies were identified as areas that were of potential historic significance during the second inventory. Because these six anomalies occur within areas that would be impacted by bottom disturbing activities, it was recommended to the Texas Historical Commission (THC) that these areas be surveyed by diving and/or probing to confirm whether or not they are significant archaeological sites. This confirmation would occur prior to a decision regarding issuance or denial of the Section 404/10 permit by USACE. The THC concurred with the recommendation. Coordination with THC is ongoing regarding the confirmation surveys.

Threatened and Endangered Species: Preliminary indications are that no known threatened and/or endangered species or their critical habitat would be affected by the proposed work. A Biological Assessment has been prepared and is presented to U.S. Fish and Wildlife Service and National Marine Fisheries Services (NMFS) in the DEIS.

Essential Fish Habitat: Consultation for Essential Fish Habitat of the Magnuson-Stevens Fishery Conservation and Management Act was initiated in November 2005 via the workshop prior to the public scoping meeting. Letters were also sent to the NMFS in February and May, 2006. Our initial determination is that the proposed action would not have a substantial adverse impact on Essential Fish Habitat or Federally managed fisheries in the Gulf of Mexico. Our final determination relative to project impacts and the need for mitigation measures is subject to additional review by and coordination with NMFS.

Public Interest Review Factors: The application will be reviewed in accordance with 33 CFR 320-330, the Regulatory Programs of USACE, and other pertinent laws, regulations and executive orders. The decision whether to issue a permit will be based on an evaluation of the probable impacts, including cumulative impacts, of the proposed activity on the public interest. That decision will reflect the national concern for both protection and utilization of important resources. The benefits, which reasonably may be expected to accrue from the proposal, must be balanced against reasonably foreseeable detriments associated with the proposal. All factors which may be relevant to the proposal will be considered. These include, but are not limited to: dredged material management, air quality, shoreline erosion, economics, general environmental concerns, historic resources, protected species, navigation, recreation, water and sediment quality, energy needs, safety, hazardous materials, and, in general, the welfare of the people.

Solicitation of Comments: USACE is soliciting comments from the public, Federal, State, and local agencies and officials, Indian tribes, and other interested parties in order to consider and evaluate the impacts of this proposed activity. Any comments received will be considered by USACE to determine whether to issue, modify, condition or deny a permit for this proposal. To make this decision, comments will be considered in the evaluation of impacts on endangered species, historic properties, water quality, general environmental effects, and the other public interest factors listed above. Comments will be used in the preparation of the Final Environmental Impact Statement pursuant to NEPA. Comments are also used to determine the overall public interest of the proposed activity.

Brenda S. Bowen,
Army Federal Register Liaison Officer.

[FR Doc. 06-9146 Filed 11-8-06; 8:45 am]

BILLING CODE 3710-52-M